DEPARTMENT OF HEALTH AND HUMAN SERVICES

National Institutes of Health

Center for Scientific Review; Amended Notice of Meeting

Notice is hereby given of a change in the meeting of the Center for Scientific Review Special Emphasis Panel, October 12, 2009, 8 a.m. to October 13, 2009, 12 p.m., National Institutes of Health, 6701 Rockledge Drive, Bethesda, MD 20892 which was published in the Federal Register on September 22, 2009, 74 FR 48269-48273.

The meeting will be held October 13, 2009 to October 14, 2009. The meeting time and location remain the same.

The meeting is closed to the public.

Dated: September 24, 2009.
Jennifer Spaeth,
Director, Office of Federal Advisory Committee Policy.

[FR Doc. E9-23597 Filed 9-30-09; 8:45 am]

BILLING CODE 4140-01-M